ENVIRONMENTAL PROTECTION AGENCY

[EPA-HQ-OPPT-2020-0720; FRL-8329-03-OCSPP]

Perchloroethylene (PCE); Regulation Under the Toxic Substances Control Act (TSCA); Request for Comment

AGENCY: Environmental Protection Agency (EPA).

ACTION: Notice.

SUMMARY: The U.S. Environmental Protection Agency (EPA or Agency) is seeking public comment to inform its reconsideration of the Toxic Substances Control Act (TSCA) regulation for perchloroethylene (PCE). As promulgated in December 2024, the PCE risk management action addressed the unreasonable risk of injury to health presented by PCE under its conditions of use by requiring various workplace exposure controls, prohibiting certain industrial and commercial uses, and preventing consumer access to the chemical, among other provisions. This request for public comment follows the filing of several legal challenges to the rule in 2025, and EPA's subsequent determination that the PCE regulation under TSCA should be reconsidered through further rulemaking. EPA intends to consider information received in response to this public comment solicitation, and other reasonably available information, to inform the development of any proposed rule to amend the PCE regulation as appropriate.

DATES: Comments must be received on or before August 29, 2025.

ADDRESSES: Submit your comments, identified by docket identification (ID) number EPA-HQ-OPPT-2020-0720, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

Technical information: Peter Deck, Existing Chemical Risk Management Division (7405M), Office of Pollution Prevention and Toxics, Environmental Protection Agency, 1200 Pennsylvania Ave. NW, Washington, DC 20460-0001; telephone number: (202) 566-0488; email address: PCE.TSCA@epa.gov.

General information: The TSCA-Hotline, ABVI-Goodwill, 422 South Clinton Ave., Rochester, NY 14620; telephone number: (202) 554-1404; email address: TSCA-Hotline@epa.gov.

SUPPLEMENTARY INFORMATION:

I. Executive Summary

A. Does this action apply to me?

This action is directed to the public in general and may be of particular interest to those involved in the manufacture (including import), processing, distribution, use, and disposal of PCE or products containing PCE, related industry trade organizations, non-governmental organizations with an interest in human and environmental health, state and local governments, Tribal Nations, and/or those interested in the assessment or management of risks involving chemical substances and mixtures regulated under TSCA. As such, the Agency has not attempted to describe all the specific entities that this action might apply to. If you need help determining applicability, consult the technical contact listed FOR FURTHER INFORMATION CONTACT.

B. What is the Agency's authority for taking this action?

Under TSCA section 6(a) (15 U.S.C. 2605(a)), if the Agency determines through a TSCA section 6(b) risk evaluation that the manufacture, processing, distribution in commerce, use or disposal of a chemical substance presents an unreasonable risk of injury to health or the environment, EPA must by rule apply one or more requirements listed in TSCA section 6(a)(1)-(7) to the extent necessary so that the chemical substance or mixture no longer presents such risk.

C. What action is the Agency taking?

On December 18, 2024, EPA released the final risk management rule for PCE titled “Perchloroethylene (PCE); Regulation Under the Toxic Substances Control Act (TSCA)” (89 FR 103560, December 18, 2024) (FRL-8329-01-OCSPP) (hereinafter “PCE final rule”). Following its publication, EPA received several petitions for review related to the rule. These petitions for review were consolidated in the U.S. Court of Appeals for the Fifth Circuit. The Court granted a temporary abeyance in the litigation through August 21, 2025.

On May 12, 2025, EPA filed a declaration with the Court advising that the Agency intends to reconsider the PCE final rule through further rulemaking. In that declaration, the Agency expressed its intent to solicit early stakeholder input. EPA is now soliciting early stakeholder input regarding its intended reconsideration of the rule. EPA invites public comment on requirements and implementation of the PCE final rule (89 FR 103560), particularly on the topics described in Unit II. The information received in response to this notice will inform EPA's considerations of these provisions.

This review is being done in accordance with applicable law, Executive Orders, and Administration policies, including Executive Order 14219 “Ensuring Lawful Governance and Implementing the President's `Department of Government Efficiency' Deregulatory Initiative” (90 FR 10583, February 19, 2025) and EPA's Powering the Great American Comeback Initiative Pillar I: Clean Air, Land, and Water for Every American.

D. What should I consider as I prepare my comments?

1. Submitting CBI

Do not submit CBI to EPA through https://www.regulations.gov or email. If you wish to include CBI in your comment, please follow the applicable instructions at https://www.epa.gov/dockets/commenting-epa-dockets#rules and clearly mark the information that you claim to be CBI. Information so marked will not be disclosed except in accordance with procedures set forth in 40 CFR parts 2 and 703, as applicable.

2. Tips for Preparing Your Comments

When preparing and submitting your comments, see the commenting tips at https://www.epa.gov/dockets/commenting-epa-dockets.

II. Request for Comment

EPA invites public comment on all aspects of the PCE final rule, including but not limited to any existing or anticipated implementation issues associated with the final rule requirements, experiences with the PCE final rule since it went into effect, and whether the Agency should consider additional or alternative measures or approaches to address the unreasonable risk presented by PCE under the conditions of use. Input on the following is of particular interest to EPA:

• The Existing Chemical Exposure Limit (ECEL) of 0.14 parts per million (ppm) as an 8-hour time weighted average (8-hr TWA) promulgated in the PCE final rule as part of the Workplace Chemical Protection Program (WCPP) (see 40 CFR 751.603 and 751.607(b)), including whether the use of a different exposure limit would be more appropriate to inform risk management. Different exposure limits might include but are not limited to: the acute non-cancer exposure limit of 0.50 ppm (8-hr TWA) and the lifetime cancer exposure limit of 0.47 ppm (8-hr TWA) as presented in the Existing Chemical Exposure Limit (ECEL) for Occupational Use of Perchloroethylene Memo available at https://www.regulations.gov/document/EPA-HQ-OPPT-2020-0720-0043.

• Conditions of use the Agency could contemplate subjecting to a WCPP as opposed to imposing a prohibition. Information such as workplace controls currently in place or other information demonstrating how regulated parties could mitigate the unreasonable risk of PCE for the condition of use would be most helpful to the Agency.

• The use of PCE in industrial dry cleaning processes including workplace controls that reduce exposure to PCE and the performance of alternatives to PCE in these operations.

To the extent possible, the Agency asks commenters to please cite and provide any public data related to or that supports comments provided, and to the extent permissible, describe and provide any supporting data that is not publicly available.

Authority: 15 U.S.C. 2605.

Dated: July 25, 2025.
Nancy B. Beck,
Principal Deputy Assistant Administrator, Office of Chemical Safety and Pollution Prevention.

[FR Doc. 2025-14429 Filed 7-29-25; 8:45 am]

BILLING CODE 6560-50-P